NATIONAL ARCHIVES AND RECORDS ADMINISTRATION

Privacy Act of 1974, as Amended; System of Records Notices

AGENCY: National Archives and Records Administration (NARA).

ACTION: Notice of a proposed new routine use for an existing privacy system of records and the revision of the existing inventory of Privacy Act system managers.

SUMMARY: The National Archives and Records Administration (NARA) is proposing to revise an existing system of records, NARA 1—Researcher Application Files. The system is being revised to add as a routine use the invitation for researchers to participate in voluntary customer satisfaction surveys. NARA is also revising its inventory of system managers, Appendix B, to reflect organizational changes and to update addresses.

DATES: Effective Date: The revision to NARA 1, Researcher Application Files, will become effective without further notice on February 23, 2006, unless comments received on or before that date cause a contrary decision. If changes are made based on NARA's review comments received, a new final notice will be published.

ADDRESSES: Send comments to the Privacy Act Officer, Office of General Counsel (NGC), Room 3110, National Archives and Records Administration, 8601 Adelphi Road, College Park, MD 20740-6001. They may be faxed to 301-837-0293. You may also comment via the Internet to comments@NARA.GOV.

FOR FURTHER INFORMATION CONTACT: Ramona Branch Oliver, Privacy Act Officer, National General Counsel, Room 3110, AII, at telephone number 301-837-2024 or fax number 301-837-0293.

SUPPLEMENTARY INFORMATION: The last notice for this system was published in the Federal Register on April 2, 2002.

The notice for this system of records states the name and the location of the record system, the authority for and manner of its operation, the categories of individuals that it covers, the types of records that it contains, the sources of information in the records, and the proposed “routine uses” of the system of records. The notice also includes the business address of the NARA official who will inform interested persons of the procedures whereby they may gain access to and correct records pertaining to themselves.

One of the purposes of the Privacy Act, as stated in section 2(b)(4) of the Act, is to provide certain safeguards for an individual against an invasion of personal privacy by requiring Federal agencies to disseminate any record of identifiable personal information in a manner that assures that such action is for a necessary and lawful purpose, that information is current and accurate for its intended use, and that adequate safeguards are provided to prevent misuse of such information. NARA intends to follow these principles in transferring information to another agency or individual as a “routine use”, including assurance that the information is relevant for the purposes for which it is transferred.

Dated: January 14, 2006.
Allen Weinstein,
Archivist of the United States.

Accordingly, we are publishing the revised system of records notice in its entirety and the revised Appendix B as follows:

NARA 1

System name:

Researcher Application Files.

Security classification:

None.

System location:

Researcher application files are maintained in the following locations in the Washington, DC area and other geographical regions. The addresses for these locations are listed in Appendix B following the NARA Notices:

(1) Customer Services Division;

(2) Presidential libraries and projects; and

(3) Regional records services facilities.

Categories of individuals covered by the system:

Individuals covered by this system include persons who apply to use original records for research in NARA facilities in the Washington, DC area, the Presidential libraries, and the regional records services facilities.

Categories of records in the system:

Researcher application files may include: Researcher applications; related correspondence; and electronic records. These files may contain the following information about an individual: Name, address, telephone number, proposed research topic(s), occupation, name and address of employer/institutional affiliation, educational level and major field, expected result(s) of research, photo, researcher card number, type of records used, and other information furnished by the individual. Electronic systems may also contain additional information related to the application process.

Authority for maintenance of the system:

44 U.S.C. 2108, 2111 note, and 2203(f)(1).

Purpose(s):

The information in this system is used to register researchers who wish to gain access to original records; to assist NARA in maintaining intellectual control over archival holdings and to refer related information to the Office of Inspector General if original records are determined to be missing or mutilated; to disseminate information related to events and programs of interest to NARA's researchers as appropriate; and measure customer satisfaction with NARA services. Aggregate information from this system may be used for the purposes of review, analysis, planning, and policy formulation related to customer service staffing and facility needs.

Routine uses of records maintained in the system, including categories of users and the purposes of such uses:

NARA maintains researcher application files on individuals to: Register persons who apply to use original records for research at a NARA facility; record initial research interests of researchers; determine which records researchers may want to use; contact researchers if additional information of research interest is found or if problems with the requested records are discovered; and prepare mailing lists for sending notices of events and programs of interest to researchers, including the fundraising and related activities of NARA-associated foundations, and invitations to participate in voluntary customer satisfaction surveys, unless individuals elect that their application information not be used for this purpose. The electronic databases serve as finding aids to the applications. Information in the system is also used by NARA staff to compile statistical and other aggregate reports regarding researcher use of records.

The routine use statements A, C, E, F, and G, described in Appendix A following the NARA Notice, also apply to this system of records.

Disclosure to consumer reporting agencies:

In addition to the routine use statements referenced above, the researcher application files are handled consistent with disclosure provisions in 5 U.S.C. 552a(b)(1) through (b)(12).

Policies and practices for storing, retrieving, accessing, retaining, and disposing of records in the system:

Storage:

Paper and electronic records.

Retrievability:

Information in the records may be retrieved by the name of the individual or by researcher card number.

Safeguards:

During normal hours of operation, paper records are maintained in areas accessible only to authorized personnel of NARA. Electronic records are accessible via passwords from terminals located in attended offices. After hours, buildings have security guards and/or doors are secured and all entrances are monitored by electronic surveillance equipment.

Retention and disposal:

Researcher application files are temporary records and are destroyed in accordance with the disposition instructions in the NARA records schedule contained in FILES 203, the NARA Files Maintenance and Records Disposition Manual. Individuals may request a copy of the disposition instructions from the NARA Privacy Act Officer.

System manager(s) and address:

For researchers who apply to use records and Nixon presidential materials in the Washington, DC area, the system manager for researcher application files is: Assistant Archivist for Records Services—Washington, DC (NW). For researchers who apply to use accessioned records, presidential records, and donated historical materials in the Presidential libraries and the regional records services facilities, the system managers of researcher application files are the directors of the individual libraries and regional records services facilities. The addresses for these locations are listed in Appendix B following the NARA Notices.

Notification procedure:

Individuals interested in inquiring about their records should notify the NARA Privacy Act Officer, whose address is listed in Appendix B after the NARA Notices.

Record access procedures:

Individuals who wish to gain access to their records should submit their request in writing to the NARA Privacy Act Officer at the address given in Appendix B.

Contesting record procedures:

NARA rules for contesting the contents and appealing initial determinations are found in 36 CFR part 1202.

Record source categories:

Information in researcher application files is obtained from researchers and from NARA employees who maintain the files.

Exemptions claimed for the system: None

Appendix A—Routine Uses

The following routine use statements will apply to National Archives and Records Administration notices where indicated:

A. Routine Use—Law Enforcement

In the event that a system of records maintained by this agency to carry out its functions indicates a violation or potential violation of law, whether civil, criminal or regulatory in nature, and whether arising by general statute or particular program statute, or by regulation, rule or order issued pursuant thereto, the relevant records in the system of records, may be referred, as a routine use, to the appropriate agency, whether Federal, State, local, or foreign, charged with the responsibility of investigating or prosecuting such violation or charged with enforcing or implementing the statute, or rule, regulation or order issued pursuant thereto.

B. Routine Use—Disclosure When Requesting Information

A record from this system of records may be disclosed as a routine use to a Federal, State, or local agency maintaining civil, criminal or other relevant enforcement information or other pertinent information, such as current licenses, if necessary, to obtain information relevant to an agency decision concerning the hiring or retention of an employee, the issuance of a security clearance, the letting of a contract, or the issuance of a license, grant, or other benefit.

C. Routine Use—Disclosure of Requested Information

A record from this system of records may be disclosed to a Federal agency, in response to its request, in connection with the hiring or retention of an employee, the issuance of a security clearance, conducting a security or suitability investigation, classifying a job, the reporting of an investigation of an employee, the letting of a contract, or the issuance of a license, grant, or other benefit by the requesting agency, to the extent that the information is relevant and necessary to the requesting agency's decision on the matter.

D. Routine Use—Grievance, Complaint, Appeal

A record from this system of records may be disclosed to an authorized appeal or grievance examiner, formal complaints examiner, equal employment opportunity investigator, arbitrator, or other duly authorized official engaged in investigation or settlement of a grievance, complaint, or appeal filed by an employee. A record from this system of records may be disclosed to the United States Office of Personnel Management, the Merit Systems Protection Board, Federal Labor Relations Authority, or the Equal Employment Opportunity Commission when requested in the performance of their authorized duties. To the extent that official personnel records in the custody of NARA are covered within the system of records published by the Office of Personnel Management as Governmentwide records, those records will be considered as a part of that Governmentwide system. Other records covered by notices published by NARA and considered to be separate systems of records may be transferred to the Office of Personnel Management in accordance with official personnel programs and activities as a routine use.

E. Routine Use—Congressional Inquiries

A record from this system of records may be disclosed as a routine use to a Member of Congress or to a Congressional staff member in response to an inquiry of the Congressional office made at the request of the individual about whom the record is maintained.

F. Routine Use—NARA Agents

A record from this system of records may be disclosed as a routine use to an expert, consultant, agent, or a contractor of NARA to the extent necessary for them to assist NARA in the performance of its duties. Agents include, but are not limited to, GSA or other entities supporting NARA's payroll, finance, and personnel responsibilities.

G. Routine Use—Department of Justice/Courts

A record from this system of records may be disclosed to the Department of Justice or in a proceeding before a court or adjudicative body before which NARA is authorized to appear, when: (a) NARA, or any component thereof; or, (b) any employee of NARA in his or her official capacity; or, (c) any employee of NARA in his or her individual capacity where the Department of Justice or NARA has agreed to represent the employee; or (d) the United States, where NARA determines that litigation is likely to affect the agency or any of its components, is a party to litigation or has an interest in such litigation, and the use of such records by the Department of Justice or by NARA before a court or adjudicative body is deemed by NARA to be relevant and necessary to the litigation, provided, however, that in each case, NARA determines that disclosure of the records is a use of the information contained in the records that is compatible with the purpose for which the records were collected.

Appendix B

To inquire about your records or to gain access to your records, you should submit your request in writing to: NARA Privacy Act Officer, Office of General Counsel (NGC), National Archives at College Park, 8601 Adelphi Road, Room 3110, College Park, MD 20740-6001.

If the system manager is the Assistant Archivist for Record Services—Washington, DC (NW), the records are located at the following address: Office of Record Services—Washington, DC (NW), National Archives at College Park, 8601 Adelphi Road, Room 3400, College Park, MD 20740-6001.

If the system manager is the director of a Presidential Library, the records are located at the appropriate Presidential Library, Staff or Project:

George Bush Library, 1000 George Bush Drive West, College Station, TX 77845.

Jimmy Carter Library, 441 Freedom Parkway, Atlanta, GA 30307-1498.

William J. Clinton Presidential Library, 1200 President Clinton Avenue, Little Rock, AR 72201.

Dwight D. Eisenhower Library, 200 SE 4th Street, Abilene, KS 67410-2900.

Gerald R. Ford Library, 1000 Beal Avenue, Ann Arbor, MI 48109-2114.

Herbert Hoover Library, 210 Parkside Drive, P.O. Box 488, West Branch, IA 52358-0488.

Lyndon B. Johnson Library, 2313 Red River Street, Austin, TX 78705-5702.

John F. Kennedy Library, Columbia Point, Boston, MA 02125-3398.

Nixon Presidential Materials Staff, National Archives at College Park, 8601 Adelphi Road, Room 1320, College Park, MD 20740-6001.

Ronald Reagan Library, 40 Presidential Drive, Simi Valley, CA 93065-0600.

Franklin D. Roosevelt Library, 4079 Albany Post Road, Hyde Park, NY 12538-1999.

Harry S. Truman Library, 500 West US Highway 24, Independence, MO 64050-1798.

Office of Presidential Libraries, National Archives at College Park, 8601 Adelphi Road, Room 2200, College Park, MD 20740-6001.

If the system manager is the director of a Federal Records Center or Regional Archives facility, the records are located at the appropriate Federal Records Center or Regional Archives Facility:

NARA's Pacific Alaska Region (Anchorage), 654 West Third Avenue, Anchorage, Alaska 99501-2145.

NARA's Southeast Region (Atlanta), 5780 Jonesboro Road, Morrow, Georgia 30260.

NARA‘s Northeast Region (Boston), Frederick C. Murphy Federal Center, 380 Trapelo Road, Waltham, Massachusetts 02452-6399.

NARA’s Great Lakes Region (Chicago), 7358 South Pulaski Road, Chicago, Illinois 60629-5898.

NARA's Great Lakes Region (Dayton), 3150 Springboro Road, Dayton, Ohio 45439-1883.

NARA's Rocky Mountain Region (Denver), Bldg. 48, Denver Federal Center, West 6th Avenue and Kipling Street, Denver, Colorado 80225-0307.

NARA's Southwest Region (Fort Worth), 501 West Felix Street, Building 1, Fort Worth, Texas 76115-3405.

NARA's Central Plains Region (Kansas City), 2312 East Bannister Road, Kansas City, Missouri 64131-3.

NARA's Pacific Region (Laguna Niguel, CA), 24000 Avila Road, 1st Floor, East Entrance, Laguna Niguel, California 92677-3497.

NARA's Central Plains Region (Lee's Summit, MO), 200 Space Center Drive, Lee's Summit, Missouri 64064-1182.

NARA's Northeast Region (New York City), 201 Varick Street, New York, New York 10014-4811.

NARA's Mid Atlantic Region (Center City Philadelphia), 900 Market Street, Philadelphia, Pennsylvania 19107-4292.

NARA's Mid Atlantic Region (Northeast Philadelphia), 14700 Townsend Road, Philadelphia, Pennsylvania 19154-1096.

NARA's Mid Atlantic Region (Center City Philadelphia), 900 Market Street, Philadelphia, Pennsylvania 19107-4292.

NARA's Northeast Region (Pittsfield, MA), 10 Conte Drive, Pittsfield, Massachusetts 01201-8230.

NARA's Pacific Region (San Francisco), 1000 Commodore Drive, San Bruno, California 94066-2350.

NARA's Pacific Alaska Region (Seattle), 6125 Sand Point Way NE., Seattle, Washington 98115-7999.

National Personnel Records Center, Civilian Personnel Records, 111 Winnebago Street, St. Louis, Missouri 63118-4126.

National Personnel Records Center, Military Personnel Records, 9700 Page Avenue, St. Louis, MO 63132-5100.

Washington National Records Center (WNRC), 4205 Suitland Road, Suitland, MD 20746-8001.

If the system manager is the Director of the National Historical Publications and Records Commission (NHPRC), the records are located at the following address:

National Historical Publications and Records Commission (NHPRC), National Archives and Records Administration, 700 Pennsylvania Avenue, NW., Room 111, Washington, DC 20408-0001.

If the system manager is the Director of the Policy and Planning Staff, the records are located at the following address: Policy and Planning Staff (NPOL), National Archives and Records Administration, 8601 Adelphi Road, Room 4100, College Park, MD 20740-6001.

If the system manager is the Director of the Congressional Affairs and Communications Staff, the records are located at the following address: Congressional Affairs and Communications Staff (NCON), National Archives and Records Administration, 700 Pennsylvania Avenue, NW., Room 102, Washington, DC 20408-0001.

If the system manager is the Assistant Archivist for Information Services, the records are located at the following address: Office of Information Services (NH), National Archives and Records Administration, 8601 Adelphi Road, Room 4400, College Park, MD 20740.

If the system manager is the Assistant Archivist for Administration, the records are located at the following address: Office of Administration (NA), National Archives and Records Administration, 8601 Adelphi Road, Room 4200, College Park, MD 20740.

If the system manager is the Director of the Federal Register, the records are located at the following address: Office of the Federal Register (NF), National Archives and Records Administration, 700 Pennsylvania Avenue, NW, Washington, DC 20408-0001.

If the system manager is the Inspector General, the records are located at the following address: Office of the Inspector General (OIG), National Archives and Records Administration, 8601 Adelphi Road, Room 1300, College Park, MD 20740.

If the system manager is the General Counsel, the records are located at the following address: Office of the General Counsel (NGC), National Archives and Records Administration, 8601 Adelphi Road, Room 3110, College Park, MD 20740.

[FR Doc. E6-798 Filed 1-23-06; 8:45 am]

BILLING CODE 7515-01-P